DEPARTMENT OF THE INTERIOR

National Park Service

National Park System Advisory Board; Meeting

AGENCY: National Park Service, Interior.

ACTION: Notice of meeting.

Notice is hereby given in accordance with the Federal Advisory Committee Act, 5 U.S.C. Appendix (1994), that the National Park System Advisory Board will meet January 24-26, 2001, in the Board Room of the American Geophysical Union Building, 2000 Florida Avenue, NW., Washington, DC.

The Board will convene from 9:00 a.m., until 5:00 p.m., on January 24 and 25. On January 26, the Board will convene at 9:00 a.m., and adjourn at 12:00 noon. The Board will consider procedural matters relative to completing its study of the future of the National Park Service and the National Park System. During the morning session on January 24, the Board will be addressed by leaders of national organizations having interest in National Park Service matters.

The Board may be addressed at various times by officials of the National Park Service and the Department of the Interior; and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board may also permit attendees to address the Board, but may restrict the length of the presentations, as necessary to allow the Board to complete its agenda within the allotted time.

Anyone who wishes further information concerning the meeting, or who wishes to submit a written statement, may contact Mr. Loran Fraser, Office of Policy, National Park Service, 1849 C Street, NW., Washington, DC 20240 (telephone 202-208-7456).

Draft minutes of the meeting will be available for public inspection about 12 weeks after the meeting, in room 2414, Main Interior Building, 1849 C Street, NW., Washington, DC.

Dated: January 11, 2001.
Denis P. Galvin,
Acting Director, National Park Service.

[FR Doc. 01-1658 Filed 1-19-01; 8:45 am]

BILLING CODE 4310-70-U